POSTAL SERVICE

39 CFR Part 20

International Competitive Services Product and Price Changes

AGENCY: Postal Service™.

ACTION: Final rule.

SUMMARY: The Postal Service is revising Mailing Standards of the United States Postal Service, International Mail Manual (IMM®), to reflect the prices, product features, and classification changes to Competitive Services and other changes, as established by the Governors of the Postal Service.

DATES: Effective date: January 24, 2021.

FOR FURTHER INFORMATION CONTACT: Kathy Frigo at 202-268-4178.

SUPPLEMENTARY INFORMATION: New prices will be posted under Docket Number CP2021-15 on the Postal Regulatory Commission's website at www.prc.gov.

The number of country groups for Priority Mail Express International® (PMEI) and Priority Mail International® (PMI) will increase from 17 to 20. For both International Priority Airmail® (IPA) and International Surface Air Lift® (ISAL), the number of country groups will increase from 19 to 20. The number of country groups for outbound single-piece First-Class Package International Service® (FCPIS) will increase from 9 to 20.

Country groupings and prices for PMEI, PMI, IPA, ISAL, and outbound single-piece FCPIS will be realigned. The minimum size limits of small packets when sent as IPA, ISAL and FCPIS will be revised to conform to Universal Postal Union (UPU) standards.

This final rule describes the international price and classification changes and the corresponding mailing standards changes for the following Competitive Services:

• Global Express Guaranteed® (GXG)®.

• Priority Mail Express International.

• Priority Mail International.

• First-Class Package International Service.

• International Priority Airmail (IPA).

• International Surface Air Lift (ISAL).

• Direct Sacks of Printed Matter to One Addressee (Airmail M-bags).

• The following international extra services and fees:

• International Insurance

• Certificate of Mailing

• Registered Mail®

• Return Receipt

• Customs Clearance and Delivery Fee

• Pickup on Demand

• International Postal Money Order

• International Money Order Inquiry Fee

• International Money Transfer Service

New prices will be located on the Postal Explorer® website at https://pe.usps.com.

Global Express Guaranteed

Global Express Guaranteed (GXG) service provides fast international shipping, with international transportation and delivery provided through an alliance with FedEx Express®. (Due to COVID-19 service impacts, the money-back guarantee for GXG has been suspended until further notice.) The price increase for GXG service averages 0.9 percent.

The Postal Service provides Commercial Base® pricing to online customers who prepare and pay for GXG shipments via USPS-approved payment methods (other than Click-N-Ship® service), with a 5 percent discount off the published retail prices for GXG service. Customers who prepare GXG shipments via Click-N-Ship service will continue to pay retail prices. Commercial Plus® prices are set to match the Commercial Base prices.

Priority Mail Express International

Priority Mail Express International (PMEI) service provides fast service to approximately 180 countries in 3-5 business days for many major markets, although the actual number of days may vary based upon origin, destination and customs delays. Priority Mail Express International with Money-Back Guarantee service is available for certain destinations. The price increase for PMEI service averages 3.6 percent. The Commercial Base price for customers who prepare and pay for PMEI shipments via permit imprint, online at USPS.com®, or as registered end-users using an authorized PC Postage vendor (with the exception of Click-N-Ship service) will be an average of 5.9 percent below the retail price. Customers who prepare PMEI shipments via Click-N-Ship service pay retail prices. Commercial Plus® prices will be equivalent to Commercial Base; however, deeper discounting may still be made available to customers through negotiated service agreements. Also, three additional country price groups are being added for PMEI. In order to better align the country groupings based on volume and geography, the country groupings for PMEI will be realigned.

The Postal Service will continue to include Priority Mail Express International service in customized contracts offered to customers who meet certain revenue thresholds and are willing to commit a large amount of revenue to the USPS® for Priority Mail Express International service and Priority Mail International service.

Priority Mail Express International flat rate pricing continues to be available for Flat Rate Envelopes.

Priority Mail International

Priority Mail International (PMI) is an economical way to send merchandise and documents to about 180 countries in 6-10 business days for many major markets, although the actual number of days may vary based upon origin, destination and customs delays. The price increase for Priority Mail International service averages 5.1 percent. The Commercial Base price for customers who prepare and pay for PMI items via permit imprint, online at USPS.com, or as registered end-users using an authorized PC Postage vendor (with the exception of Click-N-Ship service) will be 5 percent below the retail price. Customers who prepare Priority Mail International shipments via Click-N-Ship service will pay retail prices. Commercial Plus prices are set to match Commercial Base prices. Commercial Plus prices will be equivalent to Commercial Base; however, deeper discounting may still be made available to customers through negotiated service agreements. Also, three additional country price groups are being added for PMEI. In order to better align the country groupings for PMI based on volume and geography, the country groupings for PMI will be realigned.

The Postal Service will continue to include Priority Mail International in customized contracts offered to customers who meet certain revenue thresholds and are willing to commit to a larger amount of revenue to the USPS® for Priority Mail Express International and Priority Mail International.

Priority Mail International flat rate pricing continues to be available for Flat Rate Envelopes, Small Flat Rate Boxes, and Medium and Large Flat Rate Boxes.

First-Class Package International Service

First-Class Package International Service (FCPIS) is an economical international service for small packages weighing less than 4 pounds and not exceeding $400 in value. The price increase for FCPIS averages 4.8 percent. The Commercial Base price, available to customers who prepare and pay for FCPIS items via permit imprint or by USPS-approved online payment methods, will be 5 percent below the retail price. Customers who prepare FCPIS shipments via Click-N-Ship service pay retail prices. Commercial Plus prices will be equivalent to Commercial Base; however, deeper discounting will still be made available to customers through negotiated service agreements. Eleven additional country price groups are being added for FCPIS. In order to better align the country groupings for FCPIS based on volume and geography, the country groupings for FCPIS will be realigned. Also, the minimum size limits of small packets when sent as FCPIS will be revised to conform to Universal Postal Union (UPU) standards. The minimum dimensions will be changed to 6 inches in length and 4 inches in height.

Electronic USPS Delivery Confirmation International service—abbreviated E-USPS DELCON INTL—is available for First-Class Package International Service items to select destination countries at no charge.

International Priority Airmail and International Surface Air Lift

International Priority Airmail (IPA) service, including IPA M-bags, is a commercial service designed for volume mailings of all First-Class Mail International postcards, letters, and large envelopes (flats), and for volume mailings of First-Class Package International Service packages (small packets) weighing up to a maximum of 4.4 pounds. IPA shipments are typically flown to foreign destinations (exceptions apply to Canada and Mexico) and are then entered into that country's air or surface priority mail system for delivery. The price increase for IPA letters, flats, and packets is 74.1 percent. International Surface Airlift (ISAL) is similar to IPA except that once flown to the foreign destination, it is entered into that country's surface nonpriority mail system for delivery. The price increase for ISAL letters, flats, and packets is 32.6 percent. One additional country price group is being added to both IPA and ISAL. In order to better align the country groupings for IPA and ISAL based on volume and geography, the country groupings for IPA and ISAL will be realigned. Also, the minimum size limits of small packets when sent as IPA or ISAL will be revised to conform to Universal Postal Union (UPU) standards. The minimum dimensions will be changed to 6 inches in length and 4 inches in height.

Direct Sacks of Printed Matter to One Addressee (Airmail M-Bags)

An airmail M-bag is a direct sack of printed matter sent to a single foreign addressee at a single address. Prices are based on the weight of the sack. The price increase for Airmail M-bags averages 5.0 percent.

International Extra Services and Fees

Depending on country destination and mail type, customers may add a variety of extra services to their outbound shipments and pay a variety of fees. The Postal Service proposes to increase fees for certain international extra services, as follows:

GXG insurance: There is no charge for GXG insurance for coverage up to $100. The fee for GXG insurance will increase to $1.30 for each additional $100 or fraction over $100, up to a maximum indemnity of $2,499 per shipment (the maximum indemnity varies by country).

Global Express Guaranteed insurance | Fee
$100 | $0.00
Each additional $100 or fraction over $100 | 1.30
Maximum insurance $2,499 (varies by country).

• Priority Mail Express International insurance (PMEI) and Priority Mail International (PMI) insurance: There is no charge for PMEI and PMI merchandise insurance coverage up to $200. The fee for PMEI and PMI merchandise insurance will increase to $1.80 for each additional $100 or fraction over $200, up to a maximum indemnity of $5,000 (the maximum indemnity varies by country).

Indemnity limit not over | Fee
Up to $200 | $0.00
$200.01-$300.00 | 6.85
$300.01-$400.00 | 8.65
$400.01-$500.00 | 10.45
$500.01-$600.00 | 12.25
$600.01-$700.00 | 14.05
$700.01-$800.00 | 15.85
$800.01-$900.00 | 17.65
$17.65 plus $1.80 per $100 or fraction thereof over $900 in declared value. Maximum insurance $5,000 (varies by country).

Certificate of mailing service: Prices for certificate of mailing service will be as follows:

Certificate of mailing | Fee
Individual pieces
Individual article (PS Form 3817) | $1.55
Duplicate copy of PS Form 3817 or PS Form 3665 (per page) | 1.55
Firm mailing sheet (PS Form 3665), per piece (minimum 3). All other qualifying classes of mail | 0.53
Bulk quantities
For first 1,000 pieces (or fraction thereof) | 8.80
Each additional 1,000 pieces (or fraction thereof) | 1.10
Duplicate copy of PS Form 3606 | 1.55

International Registered Mail service: The fee for international registered mail will increase to $16.30.

International return receipt service: The fee for international return receipt service will increase to $4.25.

Customs clearance and delivery fee: The customs clearance and delivery fee per dutiable item will increase to $6.65.

Pickup on Demand: The fee for pickup on demand will increase to $25.00.

International Postal Money Orders: The fee for international postal money orders will increase to $10.50.

International Money Order Inquiry: The fee for international money orders inquiry will increase to $7.85.

International Money Transfer Service (Sure Money® service): Prices for international money transfer service will be as follows:

International money transfer service (sure money) | Fee
$0.01-$750.00 | $14.85
$750.01-$1500.00 | 21.50
Refunds | 32.50
Change of Recipient | 17.35

The Postal Service hereby adopts the following changes to Mailing Standards of the United States Postal Service, International Mail Manual (IMM), which is incorporated by reference in the Code of Federal Regulations. See 39 CFR 20.1.

List of Subjects in 39 CFR Part 20

Foreign relations, International postal services.

Accordingly, 39 CFR part 20 is amended as follows:

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM), as follows:

* * * * *

Mailing Standards of the United States Postal Service, International Mail Manual (IMM)

* * * * *

2 Conditions for Mailing

* * * * *

250 First-Class Package International Service

251 Description and Physical Characteristics

* * * * *

251.2 Physical Characteristics and Standards—Packages (Small Packets)

* * * * *

251.22 Dimensions—Other Than Rolls

[Delete c. and add new a. and b. to indicate minimum dimensions; revise current a. and b. as c. and d. as follows:]

a. Minimum length: 6 inches

b. Minimum height: 4 inches

* * * * *

292 International Priority Airmail (IPA) Service

* * * * *

292.4 Mail Preparation

* * * * *

292.45 IPA Foreign Office of Exchange Codes and Price Groups

* * * * *

Exhibit 292.45a

IPA Foreign Office of Exchange Codes and Price Groups

[Revise the price group numbers in column 3 to read as follows:]

Country labeling name | Foreign office of exchange code | Price group
Afghanistan | KBL | 4
Albania | TIA | 3
Algeria | ALG | 5
Andorra, via Spain | MAD | 3
Angola | LAD | 5
Anguilla | AXA | 6
Antigua and Barbuda | ANU | 6
Argentina | BUE | 11
Armenia | EVN | 3
Aruba | AUA | 6
Ascension, via United Kingdom | LAL | 5
Australia ¹ | SYD | 12
Austria | VIE | 9
Azerbaijan | BAK | 3
Bahamas | NAS | 6
Bahrain | BAH | 4
Bangladesh | DAC | 4
Barbados | BGI | 6
Belarus | MSQ | 3
Belgium | BRU | 9
Belize | BZE | 6
Benin | COO | 5
Bermuda | SGE | 6
Bhutan, via United Kingdom | LAL | 4
Bolivia | LPB | 6
Bonaire, Sint Eustatius, and Saba | BON | 6
Bosnia-Herzegovina | SJJ | 3
Botswana | GBE | 5
Brazil | Letter-size: SAO Flat-size: SAO Package-size: CWB | 13
British Virgin Islands | RAD | 6
Brunei Darussalam | BWN | 4
Bulgaria | SOF | 3
Burkina Faso | OUA | 5
Burma (Myanmar) | RGN | 4
Burundi | BJM | 5
Cambodia | PNH | 4
Cameroon | DLA | 5
Canada | See Canadian Labeling Information in Exhibit 292.45b | 1
Cape Verde | RAI | 5
Cayman Islands | GCM | 6
Central African Republic | BGF | 5
Chad | NDJ | 5
Chile | SCL | 11
China | BJS | 14
Colombia | BOG | 6
Comoros Islands, via France | CDG | 5
Congo, Dem. Rep. of the | FIH | 5
Congo, Rep. of the | BZV | 5
Cook Islands | RAR | 12
Costa Rica | SJO | 6
Cote d'Ivoire | ABJ | 5
Croatia | ZAG | 8
Curacao | CUR | 6
Cyprus | LCA | 4
Czech Republic | PRG | 7
Denmark | CPH | 9
Djibouti | JIB | 5
Dominica | DOM | 6
Dominican Republic | SDQ | 6
Ecuador | UIO | 6
Egypt | CAI | 5
El Salvador | SAL | 6
Equatorial Guinea | SSG | 5
Eritrea | ASM | 5
Estonia | TLL | 9
Eswatini | MTS | 5
Ethiopia | ADD | 5
Falkland Islands, via United Kingdom | LAL | 6
Faroe Islands, via Denmark | CPH | 9
Fiji | NAN | 4
Finland | HEL | 9
France (including Corsica and Monaco) | ROI | 15
French Guiana | CAY | 15
French Polynesia | FAA | 4
Gabon | LBV | 5
Gambia | BJL | 5
Georgia, Republic of | TBS | 3
Germany | FRA | 16
Ghana | ACC | 5
Gibraltar | GIB | 7
Greece | ATH | 8
Greenland, via Denmark | CPH | 9
Grenada | GND | 6
Guadeloupe | PTP | 15
Guatemala | GUA | 6
Guinea | CKY | 5
Guinea-Bissau | OXB | 5
Guyana | GEO | 6
Haiti | PAP | 6
Honduras | TGU | 6
Hong Kong | HKG | 18
Hungary | BUD | 7
Iceland | REK | 7
India | DEL | 10
Indonesia | JKT | 4
Iraq | BGW | 4
Ireland | DUB | 9
Israel | TLV | 8
Italy | MIL | 9
Jamaica | KIN | 6
Japan | KWS | 17
Jordan | AMM | 4
Kazakhstan | ALA | 4
Kenya | NBO | 5
Kiribati | TRW | 4
Korea, Republic of (South) | SEL | 18
Kosovo, Republic of | PRN | 3
Kuwait | KWI | 4
Kyrgyzstan | FRU | 4
Laos | VTE | 4
Latvia | RIX | 3
Lebanon | BEY | 4
Lesotho | MSU | 5
Liberia | MLW | 5
Libya | TIP | 5
Liechtenstein, via Switzerland | ZRH | 7
Lithuania | VNO | 7
Luxembourg | LUX | 8
Macao | MFM | 4
Madagascar | TNR | 5
Malawi | LLW | 5
Malaysia | KUL | 10
Maldives | MLE | 4
Mali | BKO | 5
Malta | MAR | 3
Martinique | FDF | 15
Mauritania | NKC | 5
Mauritius | PLU | 5
Mexico | MEX | 2
Moldova | KIV | 3
Mongolia | ULN | 4
Montenegro | TGD | 3
Montserrat | MNI | 6
Morocco | CAS | 5
Mozambique | MPM | 5
Namibia | WDH | 5
Nauru | INU | 4
Nepal | KTM | 4
Netherlands | HAG | 9
New Caledonia | NOU | 4
New Zealand ² | AKL | 12
Nicaragua | MGA | 6
Niger | NIM | 5
Nigeria | LOS | 5
North Macedonia, Republic of | FRA | 3
Norway | OSL | 9
Oman | MCT | 4
Pakistan | ISB | 4
Panama | PTY | 6
Papua New Guinea | BOR | 4
Paraguay | ASU | 6
Peru | LIM | 6
Philippines | MNL | 4
Pitcairn Island, via New Zealand | AKL | 4
Poland | WAW | 7
Portugal (includes Azores and Madeira Islands) | LIS | 7
Qatar | DOH | 4
Reunion | RUN | 15
Romania | BUH | 3
Russia | MOW | 19
Rwanda | KGL | 5
Saint Helena, via United Kingdom | LAL | 5
Saint Kitts and Nevis | SKB | 6
Saint Lucia | SLU | 6
Saint Pierre and Miquelon, via Canada | See Canadian Labeling Information in Exhibit 292.45b | 3
Saint Vincent and The Grenadines | KTN | 6
Samoa | APW | 4
San Marino, via Italy | MIL | 8
Sao Tome and Principe, via Portugal | LIS | 5
Saudi Arabia | DMM | 4
Senegal | DKR | 5
Serbia, Republic of | BEG | 3
Seychelles | SEZ | 5
Sierra Leone | FNA | 5
Singapore | SIN | 10
Sint Maarten | SXM | 6
Slovak Republic (Slovakia) | BTS | 3
Slovenia | LJU | 8
Solomon Islands | HIR | 4
South Africa | JNB | 5
South Sudan, Republic of | JUB | 5
Spain (includes Canary Islands) | MAD | 8
Sri Lanka | CMB | 4
Suriname | PBM | 6
Sweden | STO | 8
Switzerland | ZRH | 9
Taiwan | TPE | 10
Tajikistan | DYU | 4
Tanzania | DAR | 5
Thailand | BKK | 10
Timor-Leste, Democratic Republic of | DIL | 4
Togo | LFW | 5
Tonga | TBU | 4
Trinidad and Tobago | POS | 6
Tristan da Cunha, via South Africa | JNB | 5
Tunisia | TUN | 5
Turkey | IST | 3
Turkmenistan | ASB | 4
Turks and Caicos Islands | GDT | 6
Tuvalu, via Fiji | NAN | 4
Uganda | KLA | 5
Ukraine | IEV | 3
United Arab Emirates | DXB | 10
United Kingdom of Great Britain and Northern Ireland (includes England, Scotland, Wales, Northern Ireland, Guernsey, Jersey, Alderney, Sark, and The Isle of Man) | LAL | 20
Uruguay | MVD | 6
Uzbekistan | TAS | 4
Vanuatu | VLI | 4
Vatican City | VAT | 9
Venezuela | MAI | 11
Vietnam | SGN | 4
Wallis and Futuna Islands, via New Caledonia | NOU | 4
Yemen | SAH | 4
Zambia | LUN | 5
Zimbabwe | HRE | 5
1. At the mailer's option, a finer sortation for IPA items addressed to Australia may be used. If this option is chosen, items addressed with postal codes beginning with 0, 1, 2, 4, and 9 and uncoded mail should be sorted and prepared in direct country containers tagged to Sydney. Both the three-letter exchange office code (“SYD”) and the country name (“Australia”) should be entered in the “To” block of PS Tag 115, International Priority Airmail. Items addressed with postal codes beginning with 3, 5, 6, 7, and 8 should be sorted and prepared in direct country containers tagged to Melbourne. Both the three-letter exchange office code (“MEL”) and the country name (“Australia”) should be entered in the “To” block of PS Tag 115.
2. For all destinations to New Zealand other than Cook Islands. For Cook Islands, see the entry for Cook Islands in this exhibit.

* * * * *

293 International Surface Air Lift (ISAL) Service

* * * * *

293.4 Mail Preparation

* * * * *

293.45 ISAL Foreign Office of Exchange Codes and Price Groups

* * * * *

Exhibit 293.45a

ISAL Foreign Office of Exchange Codes and Price Groups

[Revise the price group numbers in column 3 to read as follows:]

Country labeling name | Foreign office of exchange code | Price group
Albania | TIA | 3
Algeria | ALG | 5
Angola | LAD | 5
Argentina | BUE | 11
Aruba | AUA | 6
Australia | SYD | 12
Austria | VIE | 9
Bahrain | BAH | 4
Bangladesh | DAC | 4
Belgium | BRU | 9
Belize | BZE | 6
Benin | COO | 5
Bolivia | LPB | 6
Bonaire, Sint Eustatius, and Saba | BON | 6
Brazil | Letter-size: SAO Flat-size: SAO Package-size: CWB | 13
Bulgaria | SOF | 3
Burkina Faso | OUA | 5
Cameroon | DLA | 5
Canada | See Canadian Labeling Information in Exhibit 293.45b | 1
Central African Republic | BGF | 5
Chile | SCL | 11
China | BJS | 14
Colombia | BOG | 6
Congo, Democratic Republic of the | FIH | 5
Cook Islands | RAR | 12
Costa Rica | SJO | 6
Cote d'Ivoire (Ivory Coast) | ABJ | 5
Curacao | CUR | 6
Czech Republic | PRG | 7
Denmark | CPH | 9
Dominican Republic | SDQ | 6
Ecuador | GYE | 6
Egypt | CAI | 5
El Salvador | SAL | 6
Ethiopia | ADD | 5
Fiji | NAN | 4
Finland | HEL | 9
France (including Corsica and Monaco) | ROI | 15
French Guiana | CAY | 15
Gabon | LBV | 5
Germany | NIA | 16
Ghana | ACC | 5
Greece | ATH | 8
Guatemala | GUA | 6
Guyana | GEO | 6
Haiti | PAP | 6
Honduras | TGU | 6
Hong Kong | HKG | 18
Hungary | BUD | 7
Iceland | REK | 7
India | BOM | 10
Indonesia | JKT | 4
Ireland | AHE | 9
Israel | TLV | 8
Italy | MIL | 9
Jamaica | KIN | 6
Japan | KWS | 17
Jordan | AMM | 4
Kenya | NBO | 5
Korea, Republic of (South) | SEL | 18
Kuwait | KWI | 4
Lebanon | BEY | 4
Liechtenstein | ZRH | 7
Luxembourg | LUX | 8
Madagascar | TNR | 5
Malaysia | KUL | 10
Mali | BKO | 5
Mauritania | NKC | 5
Mauritius | MRU | 5
Mexico | MEX | 2
Morocco | CAS | 5
Mozambique | MPM | 5
Netherlands | HAG | 9
New Zealand * | AKL | 12
Nicaragua | MGA | 6
Niger | NIM | 5
Nigeria | LOS | 5
Norway | OSL | 9
Oman | MCT | 4
Pakistan | KHI | 4
Panama | PTY | 6
Papua New Guinea | BOR | 4
Paraguay | ASU | 6
Peru | LIM | 6
Philippines | MNL | 4
Poland | WAW | 7
Portugal | LIS | 7
Qatar | DOH | 4
Reunion | RUN | 15
Romania | BUH | 3
Russia | MOW | 19
Saudi Arabia | DMM | 4
Senegal | DKR | 5
Singapore | SIN | 10
Sint Maarten | SXM | 6
Slovak Republic (Slovakia) | BTS | 3
South Africa | JNB | 5
Spain (includes Canary Islands) | MAD | 8
Sri Lanka | CMB | 4
Suriname | PBM | 6
Sweden | STO | 8
Switzerland | ZRH | 9
Taiwan | TPE | 10
Tanzania | DAR | 5
Thailand | BKK | 10
Timor-Leste, Democratic Republic of | DIL | 4
Togo | LFW | 5
Trinidad and Tobago | POS | 6
Tunisia | TUN | 5
Turkey | IST | 3
Uganda | KLA | 5
United Arab Emirates | DXB | 10
United Kingdom of Great Britain and Northern Ireland (includes England, Scotland, Wales, Northern Ireland, Guernsey, Jersey, Alderney, Sark, and The Isle of Man) | LAL | 20
Uruguay | MVD | 6
Venezuela | MAI | 11
Yemen | SAH | 4
Zambia | NLA | 5
Zimbabwe | HRE | 5
* For all destinations to New Zealand other than Cook Islands. For Cook Islands, see the entry for Cook Islands in this exhibit.

* * * * *

Country Price Groups and Weight Limits

* * * * *

[Revise the text to read as follows:]

Country | Global Express Guaranteed: Price group | Global Express Guaranteed: Max. Wt. (lbs.) | Priority Mail Express International: Price group | Priority Mail Express International: Max. Wt. (lbs.) | Priority Mail Express International: PMEI Flat Rate Envelopes price group ¹ | Priority Mail International: Price group | Priority Mail International: Max. Wt. (lbs.) | Priority Mail International: PMI Flat Rate Envelopes and Boxes price group ² | First-Class Mail International and First-Class Package International Service: FCMI price group | First-Class Mail International and First-Class Package International Service: Max. Wt. | First-Class Mail International and First-Class Package International Service: FCPIS price group
Afghanistan | 6 | 70 | n/a | n/a | n/a | 7 | 66 | 8 | 6 | See Note 3 | 4
Albania | 4 | 70 | 3 | 66 | 8 | 3 | 44 | 8 | 4 | See Note 3 | 3
Algeria | 4 | 70 | 9 | 44 | 8 | 9 | 44 | 8 | 8 | See Note 3 | 5
Andorra | 5 | 4 | 4 | 66 | 8 | 4 | 66 | 8 | 5 | See Note 3 | 3
Angola | 4 | 70 | 8 | 44 | 8 | 8 | 44 | 8 | 7 | See Note 3 | 5
Anguilla | 7 | 70 | 10 | 55 | 8 | 10 | 22 | 8 | 9 | See Note 3 | 6
Antigua and Barbuda | 7 | 70 | n/a | n/a | n/a | 10 | 22 | 8 | 9 | See Note 3 | 6
Argentina | 8 | 70 | 10 | 44 | 2 | 10 | 44 | 2 | 9 | See Note 3 | 11
Armenia | 4 | 70 | 3 | 44 | 8 | 3 | 44 | 8 | 4 | See Note 3 | 3
Aruba | 7 | 70 | 11 | 44 | 8 | 11 | 44 | 8 | 9 | See Note 3 | 6
Ascension | n/a | n/a | n/a | n/a | n/a | n/a | n/a | n/a | 7 | See Note 3 | 5
Australia | 6 | 70 | 12 | 66 | 6 | 12 | 66 | 6 | 3 | See Note 3 | 12
Austria | 5 | 70 | 4 | 66 | 4 | 4 | 66 | 4 | 5 | See Note 3 | 9
Azerbaijan | 4 | 70 | 3 | 70 | 8 | 3 | 70 | 8 | 4 | See Note 3 | 3
Bahamas | 7 | 70 | 10 | 22 | 8 | 10 | 22 | 8 | 9 | See Note 3 | 6
Bahrain | 6 | 70 | 6 | 44 | 8 | 6 | 44 | 8 | 8 | See Note 3 | 4
Bangladesh | 6 | 70 | 6 | 44 | 8 | 6 | 44 | 8 | 6 | See Note 3 | 4
Barbados | 7 | 70 | 10 | 66 | 8 | 10 | 44 | 8 | 9 | See Note 3 | 6
Belarus | 4 | 70 | 3 | 44 | 8 | 3 | 66 | 8 | 4 | See Note 3 | 3
Belgium | 3 | 70 | 4 | 66 | 4 | 4 | 66 | 4 | 5 | See Note 3 | 9
Belize | 8 | 70 | 10 | 66 | 8 | 10 | 44 | 8 | 9 | See Note 3 | 6
Benin | 4 | 70 | 9 | 66 | 8 | 9 | 66 | 8 | 7 | See Note 3 | 5
Bermuda | 7 | 70 | 10 | 44 | 8 | 10 | 44 | 8 | 9 | See Note 3 | 6
Bhutan | 6 | 70 | 7 | 66 | 8 | 7 | 66 | 8 | 6 | See Note 3 | 4
Bolivia | 8 | 70 | 11 | 66 | 8 | n/a | n/a | n/a | 9 | See Note 3 | 6
Bonaire, Sint Eustatius, and Saba | 7 | 70 | 10 | 66 | 8 | 10 | 44 | 8 | 9 | See Note 3 | 6
Bosnia-Herzegovina | 4 | 70 | 3 | 66 | 8 | 3 | 44 | 8 | 4 | See Note 3 | 3
Botswana | 4 | 70 | 9 | 66 | 8 | 9 | 66 | 8 | 7 | See Note 3 | 5
Brazil | 8 | 70 | 13 | 66 | 2 | 13 | 66 | 2 | 9 | See Note 3 | 13
British Virgin Islands | 7 | 70 | n/a | n/a | n/a | 10 | 44 | 8 | 9 | See Note 3 | 6
Brunei Darussalam | 4 | 70 | 6 | 66 | 8 | 6 | 44 | 8 | 6 | See Note 3 | 4
Bulgaria | 4 | 70 | 3 | 66 | 8 | 3 | 70 | 8 | 4 | See Note 3 | 3
Burkina Faso | 4 | 70 | 9 | 70 | 8 | 9 | 66 | 8 | 7 | See Note 3 | 5
Burma (Myanmar) | n/a | n/a | 6 | 44 | 8 | 6 | 22 | 8 | 6 | See Note 3 | 4
Burundi | 4 | 70 | 8 | 66 | 8 | 8 | 66 | 8 | 7 | See Note 3 | 5
Cambodia (Kampuchea) | 8 | 70 | 6 | 66 | 8 | 6 | 66 | 8 | 6 | See Note 3 | 4
Cameroon | 4 | 70 | 9 | 44 | 8 | 9 | 66 | 8 | 7 | See Note 3 | 5
Canada | 1 | 70 | 1 | 66 | 1 | 1 | 66 | 1 | 1 | See Note 3 | 1
Cape Verde | 4 | 70 | 8 | 66 | 8 | 8 | 44 | 8 | 7 | See Note 3 | 5
Cayman Islands | 7 | 70 | 11 | 44 | 8 | 11 | 44 | 8 | 9 | See Note 3 | 6
Central African Republic | n/a | n/a | 9 | 66 | 8 | 9 | 66 | 8 | 7 | See Note 3 | 5
Chad | 4 | 70 | 8 | 66 | 8 | 8 | 44 | 8 | 7 | See Note 3 | 5
Chile | 8 | 70 | 11 | 66 | 2 | 11 | 44 | 2 | 9 | See Note 3 | 11
China | 6 | 70 | 14 | 66 | 3 | 14 | 66 | 3 | 3 | See Note 3 | 14
Colombia | 8 | 70 | 10 | 44 | 2 | 10 | 66 | 2 | 9 | See Note 3 | 6
Comoros | n/a | n/a | n/a | n/a | n/a | 8 | 44 | 8 | 7 | See Note 3 | 5
Congo, Democratic Republic of the | 4 | 66 | 9 | 66 | 8 | 9 | 66 | 8 | 7 | See Note 3 | 5
Congo, Republic of the | 4 | 70 | 8 | 66 | 8 | 8 | 44 | 8 | 7 | See Note 3 | 5
Costa Rica | 8 | 70 | 11 | 66 | 8 | 11 | 66 | 8 | 9 | See Note 3 | 6
Cote d'Ivoire (Ivory Coast) | 4 | 70 | 8 | 66 | 8 | 8 | 66 | 8 | 7 | See Note 3 | 5
Croatia | 4 | 70 | 3 | 66 | 8 | 3 | 66 | 8 | 4 | See Note 3 | 8
Cuba | n/a | n/a | 11 | 22 | 8 | 11 | 22 | 8 | 9 | See Note 3 | 6
Curacao | 7 | 70 | 11 | 66 | 8 | 11 | 44 | 8 | 9 | See Note 3 | 6
Cyprus | 6 | 70 | 7 | 70 | 8 | 7 | 70 | 8 | 4 | See Note 3 | 4
Czech Republic | 4 | 70 | 3 | 70 | 8 | 3 | 70 | 8 | 4 | See Note 3 | 7
Denmark | 5 | 70 | 4 | 66 | 4 | 4 | 66 | 4 | 5 | See Note 3 | 9
Djibouti | 4 | 70 | 9 | 44 | 8 | 9 | 44 | 8 | 7 | See Note 3 | 5
Dominica | 7 | 70 | 11 | 44 | 8 | 11 | 44 | 8 | 9 | See Note 3 | 6
Dominican Republic | 7 | 70 | 11 | 66 | 2 | 11 | 44 | 2 | 9 | See Note 3 | 6
Ecuador | 8 | 70 | 10 | 66 | 2 | 10 | 66 | 2 | 9 | See Note 3 | 6
Egypt | 6 | 70 | 8 | 44 | 8 | 8 | 66 | 8 | 8 | See Note 3 | 5
El Salvador | 8 | 70 | 11 | 66 | 8 | 11 | 44 | 8 | 9 | See Note 3 | 6
Equatorial Guinea | n/a | n/a | 8 | 44 | 8 | 8 | 22 | 8 | 7 | See Note 3 | 5
Eritrea | 4 | 70 | 9 | 66 | 8 | 9 | 44 | 8 | 7 | See Note 3 | 5
Estonia | 4 | 70 | 3 | 66 | 8 | 3 | 70 | 8 | 4 | See Note 3 | 9
Eswatini | 4 | 70 | 8 | 66 | 8 | 8 | 44 | 8 | 7 | See Note 3 | 5
Ethiopia | 4 | 70 | 9 | 66 | 8 | 9 | 66 | 8 | 8 | See Note 3 | 5
Falkland Islands | n/a | n/a | n/a | n/a | n/a | n/a | n/a | n/a | 9 | See Note 3 | 6
Faroe Islands | 5 | 70 | 5 | 44 | 8 | 5 | 70 | 8 | 5 | See Note 3 | 9
Fiji | 8 | 70 | 6 | 66 | 8 | 6 | 44 | 8 | 6 | See Note 3 | 4
Finland | 5 | 70 | 4 | 66 | 4 | 4 | 70 | 4 | 5 | See Note 3 | 9
France | 3 | 70 | 15 | 66 | 4 | 15 | 66 | 4 | 5 | See Note 3 | 15
French Guiana | 8 | 70 | 11 | 66 | 8 | 11 | 66 | 8 | 9 | See Note 3 | 15
French Polynesia | 4 | 70 | 7 | 66 | 8 | 7 | 66 | 8 | 6 | See Note 3 | 4
Gabon | 4 | 70 | 8 | 66 | 8 | 8 | 44 | 8 | 7 | See Note 3 | 5
Gambia | 4 | 70 | n/a | n/a | n/a | 8 | 66 | 8 | 7 | See Note 3 | 5
Georgia, Republic of | 4 | 70 | 3 | 66 | 8 | 3 | 44 | 8 | 4 | See Note 3 | 3
Germany | 3 | 70 | 16 | 66 | 4 | 16 | 70 | 4 | 5 | See Note 3 | 16
Ghana | n/a | n/a | 9 | 66 | 8 | 9 | 66 | 8 | 7 | See Note 3 | 5
Gibraltar | 4 | 70 | n/a | n/a | n/a | 4 | 44 | 8 | 5 | See Note 3 | 7
Greece | 5 | 70 | 4 | 66 | 8 | 4 | 44 | 8 | 5 | See Note 3 | 8
Greenland | 5 | 70 | n/a | n/a | n/a | 5 | 66 | 8 | 5 | See Note 3 | 9
Grenada | 7 | 70 | 10 | 66 | 8 | 10 | 44 | 8 | 9 | See Note 3 | 6
Guadeloupe | 7 | 70 | 11 | 66 | 8 | 11 | 66 | 8 | 9 | See Note 3 | 15
Guatemala | 8 | 70 | 10 | 66 | 8 | 10 | 44 | 8 | 9 | See Note 3 | 6
Guinea | 4 | 70 | 8 | 44 | 8 | 8 | 66 | 8 | 7 | See Note 3 | 5
Guinea-Bissau | n/a | n/a | 9 | 44 | 8 | 9 | 66 | 8 | 7 | See Note 3 | 5
Guyana | 8 | 70 | 11 | 66 | 8 | 11 | 44 | 8 | 9 | See Note 3 | 6
Haiti | 7 | 70 | 10 | 66 | 8 | 10 | 55 | 8 | 9 | See Note 3 | 6
Honduras | 8 | 70 | 11 | 44 | 8 | 11 | 44 | 8 | 9 | See Note 3 | 6
Hong Kong | 3 | 70 | 18 | 66 | 3 | 18 | 66 | 3 | 3 | See Note 3 | 18
Hungary | 4 | 70 | 3 | 66 | 8 | 3 | 44 | 8 | 4 | See Note 3 | 7
Iceland | 5 | 70 | 5 | 66 | 8 | 5 | 70 | 8 | 5 | See Note 3 | 7
India | 6 | 70 | 6 | 70 | 3 | 6 | 44 | 3 | 6 | See Note 3 | 10
Indonesia | 6 | 70 | 6 | 66 | 3 | 6 | 44 | 3 | 6 | See Note 3 | 4
Iran | n/a | n/a | n/a | n/a | n/a | 7 | 44 | 8 | 8 | See Note 3 | 4
Iraq | 6 | 70 | 6 | 44 | 8 | 6 | 44 | 8 | 8 | See Note 3 | 4
Ireland | 3 | 70 | 4 | 66 | 4 | 4 | 66 | 4 | 5 | See Note 3 | 9
Israel | 6 | 70 | 4 | 44 | 4 | 4 | 44 | 4 | 5 | See Note 3 | 8
Italy | 3 | 70 | 4 | 66 | 4 | 4 | 66 | 4 | 5 | See Note 3 | 9
Jamaica | 7 | 70 | 11 | 66 | 8 | 11 | 22 | 8 | 9 | See Note 3 | 6
Japan | 3 | 70 | 17 | 66 | 3 | 17 | 66 | 3 | 3 | See Note 3 | 17
Jordan | 6 | 70 | 7 | 66 | 8 | 7 | 66 | 8 | 8 | See Note 3 | 4
Kazakhstan | 4 | 70 | 7 | 66 | 8 | 7 | 44 | 8 | 6 | See Note 3 | 4
Kenya | 4 | 70 | 9 | 70 | 8 | 9 | 70 | 8 | 7 | See Note 3 | 5
Kiribati | n/a | n/a | 6 | 66 | 8 | 6 | 44 | 8 | 6 | See Note 3 | 4
Korea, Democratic People's Republic of (North Korea) | n/a | n/a | n/a | n/a | n/a | n/a | n/a | n/a | 6 | See Note 3 | 4
Korea, Republic of (South Korea) | 6 | 70 | 18 | 66 | 3 | 18 | 44 | 3 | 3 | See Note 3 | 18
Kosovo, Republic of | 4 | 70 | n/a | n/a | n/a | 3 | 70 | 8 | 5 | See Note 3 | 3
Kuwait | 6 | 70 | 6 | 66 | 8 | 6 | 66 | 8 | 8 | See Note 3 | 4
Kyrgyzstan | 4 | 70 | 7 | 66 | 8 | 7 | 44 | 8 | 6 | See Note 3 | 4
Laos | 8 | 70 | 6 | 66 | 8 | 6 | 44 | 8 | 6 | See Note 3 | 4
Latvia | 4 | 70 | 3 | 66 | 8 | 3 | 70 | 8 | 4 | See Note 3 | 3
Lebanon | 6 | 70 | 6 | 66 | 8 | 6 | 66 | 8 | 8 | See Note 3 | 4
Lesotho | 4 | 70 | 9 | 66 | 8 | 9 | 44 | 8 | 7 | See Note 3 | 5
Liberia | 4 | 70 | 9 | 44 | 8 | 9 | 44 | 8 | 7 | See Note 3 | 5
Libya | 4 | 70 | n/a | n/a | n/a | 9 | 44 | 8 | 8 | See Note 3 | 5
Liechtenstein | 5 | 70 | 4 | 66 | 8 | 4 | 66 | 8 | 5 | See Note 3 | 7
Lithuania | 4 | 70 | 3 | 70 | 8 | 3 | 70 | 8 | 4 | See Note 3 | 7
Luxembourg | 3 | 70 | 4 | 66 | 4 | 4 | 66 | 4 | 5 | See Note 3 | 8
Macao | 3 | 70 | 6 | 44 | 8 | 6 | 70 | 8 | 6 | See Note 3 | 4
Madagascar | 4 | 70 | 9 | 66 | 8 | 9 | 44 | 8 | 7 | See Note 3 | 5
Malawi | 4 | 70 | 9 | 44 | 8 | 9 | 66 | 8 | 7 | See Note 3 | 5
Malaysia | 6 | 70 | 7 | 66 | 8 | 7 | 66 | 8 | 6 | See Note 3 | 10
Maldives | 6 | 70 | 6 | 66 | 8 | 6 | 66 | 8 | 6 | See Note 3 | 4
Mali | 4 | 70 | 8 | 66 | 8 | 8 | 66 | 8 | 7 | See Note 3 | 5
Malta | 5 | 70 | 5 | 44 | 8 | 5 | 66 | 8 | 5 | See Note 3 | 3
Martinique | 7 | 70 | 11 | 66 | 8 | 11 | 66 | 8 | 9 | See Note 3 | 15
Mauritania | 4 | 70 | 8 | 66 | 8 | 8 | 44 | 8 | 7 | See Note 3 | 5
Mauritius | 4 | 70 | 8 | 66 | 8 | 8 | 44 | 8 | 7 | See Note 3 | 5
Mexico | 2 | 70 | 2 | 70 | 2 | 2 | 70 | 2 | 2 | See Note 3 | 2
Moldova | 4 | 70 | 3 | 70 | 8 | 3 | 70 | 8 | 4 | See Note 3 | 3
Mongolia | 4 | 70 | 7 | 66 | 8 | 7 | 66 | 8 | 6 | See Note 3 | 4
Montenegro | 4 | 70 | n/a | n/a | n/a | 3 | 70 | 8 | 5 | See Note 3 | 3
Montserrat | 7 | 70 | n/a | n/a | n/a | 10 | 44 | 8 | 9 | See Note 3 | 6
Morocco | 4 | 70 | 9 | 68 | 8 | 9 | 66 | 8 | 8 | See Note 3 | 5
Mozambique | 4 | 70 | 9 | 66 | 8 | 9 | 66 | 8 | 7 | See Note 3 | 5
Namibia | 4 | 70 | 8 | 22 | 8 | 8 | 44 | 8 | 7 | See Note 3 | 5
Nauru | n/a | n/a | 6 | 44 | 8 | 6 | 44 | 8 | 6 | See Note 3 | 4
Nepal | 6 | 70 | 6 | 69 | 8 | 6 | 44 | 8 | 6 | See Note 3 | 4
Netherlands | 3 | 70 | 4 | 66 | 4 | 4 | 66 | 4 | 5 | See Note 3 | 9
New Caledonia | 8 | 70 | 7 | 66 | 8 | 7 | 66 | 8 | 6 | See Note 3 | 4
New Zealand | 6 | 70 | 12 | 66 | 6 | 12 | 66 | 6 | 6 | See Note 3 | 12
Nicaragua | 8 | 70 | 10 | 55 | 8 | 10 | 66 | 8 | 9 | See Note 3 | 6
Niger | 4 | 70 | 9 | 70 | 8 | 9 | 70 | 8 | 7 | See Note 3 | 5
Nigeria | 4 | 70 | 9 | 66 | 8 | 9 | 66 | 8 | 7 | See Note 3 | 5
North Macedonia, Republic of | 4 | 70 | 3 | 66 | 8 | 3 | 70 | 8 | 4 | See Note 3 | 3
Norway | 5 | 70 | 5 | 66 | 4 | 5 | 66 | 4 | 5 | See Note 3 | 9
Oman | 6 | 70 | 6 | 66 | 8 | 6 | 44 | 8 | 8 | See Note 3 | 4
Pakistan | 6 | 70 | 6 | 66 | 8 | 6 | 70 | 8 | 6 | See Note 3 | 4
Panama | 8 | 70 | 11 | 66 | 8 | 11 | 70 | 8 | 9 | See Note 3 | 6
Papua New Guinea | 8 | 70 | 7 | 55 | 8 | 7 | 44 | 8 | 6 | See Note 3 | 4
Paraguay | 8 | 70 | 10 | 55 | 8 | 10 | 66 | 8 | 9 | See Note 3 | 6
Peru | 8 | 70 | 11 | 70 | 2 | 11 | 70 | 2 | 9 | See Note 3 | 6
Philippines | 6 | 70 | 6 | 44 | 3 | 6 | 44 | 3 | 6 | See Note 3 | 4
Pitcairn Island | n/a | n/a | n/a | n/a | n/a | 6 | 22 | 8 | 6 | See Note 3 | 4
Poland | 4 | 70 | 3 | 44 | 4 | 3 | 44 | 4 | 4 | See Note 3 | 7
Portugal | 5 | 70 | 4 | 66 | 4 | 4 | 66 | 4 | 5 | See Note 3 | 7
Qatar | 6 | 70 | 7 | 66 | 8 | 7 | 70 | 8 | 8 | See Note 3 | 4
Reunion | 4 | 70 | n/a | n/a | n/a | 8 | 66 | 8 | 9 | See Note 3 | 15
Romania | 4 | 70 | 3 | 70 | 8 | 3 | 70 | 8 | 4 | See Note 3 | 3
Russia | 4 | 70 | 19 | 70 | 7 | 19 | 44 | 7 | 4 | See Note 3 | 19
Rwanda | 4 | 70 | 9 | 66 | 8 | 9 | 66 | 8 | 7 | See Note 3 | 5
Saint Helena | n/a | n/a | n/a | n/a | n/a | 9 | 44 | 8 | 7 | See Note 3 | 5
Saint Kitts and Nevis | 7 | 70 | 10 | 66 | 8 | 10 | 44 | 8 | 9 | See Note 3 | 6
Saint Lucia | 7 | 70 | 11 | 44 | 8 | 11 | 44 | 8 | 9 | See Note 3 | 6
Saint Pierre and Miquelon | n/a | n/a | n/a | n/a | n/a | 4 | 66 | 8 | 4 | See Note 3 | 3
Saint Vincent and the Grenadines | 7 | 70 | 10 | 44 | 8 | 10 | 22 | 8 | 9 | See Note 3 | 6
Samoa | n/a | n/a | 7 | 44 | 8 | 7 | 44 | 8 | 6 | See Note 3 | 4
San Marino | 3 | 70 | 5 | 66 | 8 | 5 | 66 | 8 | 5 | See Note 3 | 8
Sao Tome and Principe | n/a | n/a | 8 | 66 | 8 | 8 | 44 | 8 | 7 | See Note 3 | 5
Saudi Arabia | 4 | 70 | 6 | 66 | 8 | 6 | 66 | 8 | 8 | See Note 3 | 4
Senegal | 4 | 70 | 8 | 66 | 8 | 8 | 66 | 8 | 7 | See Note 3 | 5
Serbia, Republic of | 4 | 70 | 3 | 66 | 8 | 3 | 70 | 8 | 5 | See Note 3 | 3
Seychelles | 4 | 70 | 8 | 66 | 8 | 8 | 70 | 8 | 7 | See Note 3 | 5
Sierra Leone | n/a | n/a | 9 | 66 | 8 | 9 | 66 | 8 | 7 | See Note 3 | 5
Singapore | 3 | 70 | 6 | 66 | 3 | 6 | 66 | 3 | 6 | See Note 3 | 10
Sint Maarten | 7 | 70 | 11 | 66 | 8 | 11 | 44 | 8 | 9 | See Note 3 | 6
Slovak Republic (Slovakia) | 4 | 70 | 3 | 66 | 8 | 3 | 66 | 8 | 5 | See Note 3 | 3
Slovenia | 4 | 70 | 3 | 66 | 8 | 3 | 66 | 8 | 5 | See Note 3 | 8
Solomon Islands | n/a | n/a | 6 | 66 | 8 | 6 | 44 | 8 | 6 | See Note 3 | 4
Somalia | n/a | n/a | n/a | n/a | n/a | n/a | n/a | n/a | n/a | n/a | n/a
South Africa | 4 | 70 | 9 | 66 | 8 | 9 | 66 | 8 | 7 | See Note 3 | 5
South Sudan, Republic of | n/a | n/a | n/a | n/a | n/a | 8 | 44 | 8 | 7 | See Note 3 | 5
Spain | 5 | 70 | 4 | 66 | 4 | 4 | 44 | 4 | 5 | See Note 3 | 8
Sri Lanka | 6 | 70 | 6 | 66 | 8 | 6 | 66 | 8 | 6 | See Note 3 | 4
Sudan | n/a | n/a | 9 | 66 | 8 | 9 | 44 | 8 | 7 | See Note 3 | 5
Suriname | 8 | 70 | n/a | n/a | n/a | 11 | 44 | 8 | 9 | See Note 3 | 6
Sweden | 5 | 70 | 5 | 66 | 4 | 5 | 66 | 4 | 5 | See Note 3 | 8
Switzerland | 5 | 70 | 5 | 66 | 4 | 5 | 66 | 4 | 5 | See Note 3 | 9
Syrian Arab Republic (Syria) | n/a | n/a | 6 | 44 | 8 | 6 | 70 | 8 | 8 | See Note 3 | 4
Taiwan | 3 | 70 | 7 | 33 | 3 | 7 | 44 | 3 | 6 | See Note 3 | 10
Tajikistan | n/a | n/a | 7 | 66 | 8 | 7 | 66 | 8 | 6 | See Note 3 | 4
Tanzania | 4 | 70 | 9 | 66 | 8 | 9 | 66 | 8 | 7 | See Note 3 | 5
Thailand | 6 | 70 | 6 | 66 | 3 | 6 | 66 | 3 | 6 | See Note 3 | 10
Timor-Leste, Democratic Republic of | 6 | 70 | n/a | n/a | n/a | 7 | 44 | 8 | 6 | See Note 3 | 4
Togo | 4 | 70 | 9 | 66 | 8 | 9 | 70 | 8 | 7 | See Note 3 | 5
Tonga | 4 | 70 | 6 | 66 | 8 | 6 | 44 | 8 | 6 | See Note 3 | 4
Trinidad and Tobago | 7 | 70 | 10 | 66 | 8 | 10 | 44 | 8 | 9 | See Note 3 | 6
Tristan da Cunha | n/a | n/a | n/a | n/a | n/a | 9 | 22 | 8 | 7 | See Note 3 | 5
Tunisia | 4 | 70 | 9 | 66 | 8 | 9 | 66 | 8 | 8 | See Note 3 | 5
Turkey | 6 | 70 | 4 | 66 | 8 | 4 | 66 | 8 | 4 | See Note 3 | 3
Turkmenistan | n/a | n/a | 6 | 66 | 8 | 6 | 44 | 8 | 6 | See Note 3 | 4
Turks and Caicos Islands | 7 | 70 | 10 | 66 | 8 | 10 | 44 | 8 | 9 | See Note 3 | 6
Tuvalu | n/a | n/a | n/a | n/a | n/a | 6 | 55 | 8 | 6 | See Note 3 | 4
Uganda | 4 | 70 | 9 | 66 | 8 | 9 | 66 | 8 | 7 | See Note 3 | 5
Ukraine | 4 | 70 | 3 | 44 | 8 | 3 | 66 | 8 | 4 | See Note 3 | 3
United Arab Emirates | 6 | 70 | 7 | 70 | 8 | 7 | 70 | 8 | 8 | See Note 3 | 10
United Kingdom of Great Britain and Northern Ireland | 3 | 70 | 20 | 66 | 5 | 20 | 66 | 5 | 5 | See Note 3 | 20
Uruguay | 8 | 70 | 11 | 44 | 2 | 11 | 66 | 2 | 9 | See Note 3 | 6
Uzbekistan | 4 | 70 | 7 | 66 | 8 | 7 | 70 | 8 | 6 | See Note 3 | 4
Vanuatu | 8 | 70 | 7 | 55 | 8 | 7 | 44 | 8 | 6 | See Note 3 | 4
Vatican City | 3 | 70 | 4 | 66 | 8 | 4 | 44 | 8 | 5 | See Note 3 | 9
Venezuela | 8 | 70 | 11 | 66 | 2 | 11 | 66 | 2 | 9 | See Note 3 | 11
Vietnam | 6 | 70 | 6 | 66 | 3 | 6 | 70 | 3 | 6 | See Note 3 | 4
Wallis and Futuna Islands | 4 | 70 | n/a | n/a | n/a | 6 | 66 | 8 | 6 | See Note 3 | 4
Yemen | 6 | 70 | 7 | 66 | 8 | 7 | 66 | 8 | 8 | See Note 3 | 4
Zambia | 4 | 70 | 8 | 66 | 8 | 8 | 66 | 8 | 7 | See Note 3 | 5
Zimbabwe | 4 | 70 | 8 | 44 | 8 | 8 | 44 | 8 | 7 | See Note 3 | 5

* * * * *

Individual Country Listings

* * * * *

[For every country that offers Priority Mail Express International, Priority Mail International, First-Class Package Service International, replace the current price group shown in the individual country listing with the applicable price groups shown above.]

* * * * *

We will publish an appropriate amendment to 39 CFR part 20 to reflect these changes.

Joshua J. Hofer,
Attorney, Federal Compliance.

[FR Doc. 2020-22885 Filed 10-13-20; 8:45 am]

BILLING CODE P